DEPARTMENT OF EDUCATION

Redesign of the Rehabilitation Services Administration Rehabilitation Training Program

AGENCY: Office of Special Education and Rehabilitative Services, Department of Education.

ACTION: Notice of request for comments and recommendations on the Rehabilitation Services Administration (RSA) Rehabilitation Training Program.

SUMMARY: The Assistant Secretary for Special Education and Rehabilitative Services solicits comments and recommendations concerning the RSA Rehabilitation Training program.

DATES: We must receive your comments at one of the addresses provided in the ADDRESSES section no later than 5 p.m., Washington, DC time, on April 5, 2007.

ADDRESSES: Address all comments and recommendations to: Timothy Muzzio at the Rehabilitation Services Administration, through the Internet at the following address: Timothy.Muzzio@ed.gov.

You must include the term “Comments on the RSA Rehabilitation Training Program” in the subject line of your electronic message.

If you prefer, you may address your comments to Dr. Muzzio, U.S. Department of Education, 400 Maryland Avenue, SW., Potomac Center Plaza, room 5157, Washington, DC 20202-2800. Please submit your comments only one time, in order to ensure that we do not receive duplicate copies.

All first-class and Priority mail sent to the Department is put through an irradiation process, which can result in lengthy delays in mail delivery. Please keep this in mind when sending your comments and please consider using commercial delivery services or e-mail in order to ensure timely delivery of your comments and recommendations.

FOR FURTHER INFORMATION CONTACT: Timothy C. Muzzio, U.S. Department of Education, 400 Maryland Ave., SW., Potomac Center Plaza, room 5052, Washington, DC 20202. Telephone (202) 245-7458. Fax: (202) 245-6824. Internet: Timothy.Muzzio@ed.gov.

If you use a telecommunications device for the deaf (TDD), you may call (202) 205-5538.

Individuals with disabilities may obtain this document in an alternative format (e.g., Braille, large print, audiotape, or computer diskette) by contacting the person listed under FOR FURTHER INFORMATION CONTACT.

SUPPLEMENTARY INFORMATION:

Invitation To Comment

We invite you to submit comments and recommendations regarding the RSA Rehabilitation Training program. We encourage you to make your comments and recommendations as specific as possible. Also, if appropriate to your comment or recommendation, please identify the specific provision in the statute authorizing the RSA Rehabilitation Training program or the particular category of training that is the subject of your comment or recommendation; identify the issue, if any, outlined elsewhere in this notice, to which your comment or recommendation pertains; clearly describe your comment or recommendation; provide a rationale supporting each recommendation; and specify how the proposed change will improve the overall program.

Please include the following with your comments and recommendations: A description of your involvement in vocational rehabilitation (VR) or the RSA Rehabilitation Training program, as well as your role, if any (e.g., consumer, counselor, service provider, administrator, educator, or researcher).

During and after the comment period, you may inspect all public comments about this notice in room 5053, Potomac Center Plaza, 550 12th Street, SW., Washington, DC, between the hours of 8:30 a.m. and 4 p.m., Eastern Time, Monday through Friday of each week except Federal holidays.

Assistance to Individuals With Disabilities in Reviewing the Comments

On request, we will supply an appropriate aid, such as a reader or print magnifier, to an individual with a disability who needs assistance to review the comments and recommendations. If you want to schedule an appointment for this type of aid, please contact the person listed under FOR FURTHER INFORMATION CONTACT.

SUPPLEMENTARY INFORMATION: The RSA Rehabilitation Training program is authorized by title III of the Rehabilitation Act of 1973, as amended (Act) (29 U.S.C. 701 et seq.). The RSA Rehabilitation Training program is designed to assist in increasing the numbers of, and upgrading the skills of, qualified personnel who are trained in providing vocational, medical, social, and psychological rehabilitation services.

The Secretary is authorized to award grants and contracts to pay part of the costs of projects for the following types of projects:

(1) Grants that provide training, traineeships, and related activities, including the provision of technical assistance, to assist in increasing the numbers of qualified personnel trained in providing rehabilitation services and other services provided under the Act to individuals with disabilities.

(2) Grants to train qualified interpreters to meet the communication needs of individuals who are deaf or hard of hearing and individuals who are deaf-blind.

(3) Grants to provide technical assistance to State-designated agencies and community rehabilitation programs.

(4) Grants to provide in-service training for rehabilitation personnel, consistent with the needs identified through the comprehensive system for personnel development required by section 101(a)(7) of the Act.

The Department may provide financial assistance through six training programs:

(1) Rehabilitation Long-Term Training.

(2) Rehabilitation Continuing Education Programs.

(3) State Vocational Rehabilitation Unit In-Service Training.

(4) Training of Interpreters for Individuals Who Are Deaf and Individuals Who Are Deaf-Blind.

(5) Rehabilitation Short-Term Training.

(6) Experimental and Innovative Training.

In fiscal year 2006, the RSA training program was funded at $38,437,740. The program allocated its funds as follows:

Rehabilitation Long-Term Training (CFDA * 84.129) | $19,653,820
Rehabilitation Continuing Education Programs (CFDA 84.264) | 10,061,982
State Vocational Rehabilitation Unit In-Service Training (CFDA 84.275) | 5,765,661
Training of Interpreters for Individuals Who Are Deaf and Individuals Who Are Deaf-Blind (CFDA 84.160) | 2,097,361
Rehabilitation Short-Term Training(including the Clearinghouse) (CFDA 84.246 and 84.275) | 749,992
Experimental and Innovative Training (CFDA 84.263) | 0
Other (required set-asides, peer review, etc) | 108,924
Total | 38,437,740
* CFDA: Code of Federal Domestic Assistance number.
(See the following web page for more information: http://web99.ed.gov/GTEP/Program2.nsf)

RSA is considering whether to redesign the RSA Rehabilitation Training program in order to—

(1) Increase the number of qualified individuals who are available to work in the State vocational rehabilitation agencies and associated programs; and

(2) Maximize the efficiency and responsiveness of programs that provide education to meet the training and education needs in the rehabilitation field.

We are interested in obtaining public input to help identify any current program needs and possible future strategies for program improvement. We are particularly interested in comments from individuals with disabilities; their parents, families, guardians, advocates, and authorized representatives; and those entities and individuals serving individuals with disabilities under the Act, including State vocational rehabilitation agencies, centers for independent living, and educators who prepare individuals who work in the vocational rehabilitation field.

We are specifically interested in comments that address the following issues:

1. The need for more vocational rehabilitation counselors and how the training authority can be used to help State agencies meet the demand for rehabilitation professionals. Specifically, we seek input on the following:

a. How to more effectively recruit individuals into the rehabilitation professions and counselor training programs and State VR agencies.

b. How to increase the capacity of training programs to produce more graduates.

c. How to improve the scholarship program to help meet national demand for rehabilitation professionals by State VR agencies.

d. How to improve the geographic availability of scholarships to students.

e. Other related issues.

2. Rehabilitation Continuing Education Programs (RCEPs) and in-service training grants to State VR agencies. These two grant programs address overlapping issues. In addition, the program funds two types of RCEPs, one type serving primarily State VR agencies and the other serving primarily community rehabilitation programs. We seek input on the following:

a. The role and effectiveness of the RCEP program in meeting the needs of State VR agencies and community rehabilitation programs for training.

b. How to improve coordination among in-service training programs.

c. The effectiveness of the in-service training program in meeting the training needs identified in the Comprehensive System of Personnel Development.

d. Other related issues.

3. The need for and recommended approaches for providing technical assistance and training to State agencies to improve program outcomes.

4. Other issues regarding the RSA Rehabilitation Training program.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 29 U.S.C. 701 et seq.

Dated: March 1, 2007.
John H. Hager,
Assistant Secretary for Special Education and Rehabilitative Services.

[FR Doc. E7-3887 Filed 3-5-07; 8:45 am]

BILLING CODE 4000-01-P